DEPARTMENT OF THE INTERIOR

National Park Service

[NPS-MWR-KNRI-14233; PPMWMWROW2/PPMPSAS1Y.YP0000]

Notice of Intent To Prepare an Archeological Resources Management Plan/Environmental Impact Statement for Knife River Indian Villages National Historic Site, North Dakota

AGENCY: National Park Service, Interior.

ACTION: Notice of intent.

SUMMARY: Pursuant to section 102(2)(c) of the National Environmental Policy Act of 1969, the National Park Service (NPS) announces its intent to prepare an Archeological Resources Management Plan/Environmental Impact Statement (Plan/EIS) for Knife River Indian Villages National Historic Site, North Dakota.

DATES: This notice initiates the public scoping process for the Plan/EIS. Notices of any public scoping meetings regarding this Plan/EIS, including specific dates, times, and locations, will be announced in the local media; in project newsletters; on the project Web site at http://parkplanning.nps.gov/KNRI; or may be obtained directly by contacting the Superintendent at the address below.

ADDRESSES: Superintendent, Knife River Indian Villages National Historic Site, P.O. Box 9, Stanton, ND 58571-0009. You are encouraged to provide comments or requests to be added to the mailing list electronically through the project Web site at http://parkplanning.nps.gov/KNRI or by contacting the Superintendent.

FOR FURTHER INFORMATION CONTACT: Superintendent Wendy Ross, Knife River Indian Villages National Historic Site, at the address above, or by telephone at (701) 745-3300.

SUPPLEMENTARY INFORMATION: The NPS is announcing its intent to prepare an archeological resources management plan and environmental impact statement (Plan/EIS) for comprehensive archeological resource protection from Knife River bank erosion, infrastructure placement, vegetation encroachment, and burrowing mammal activity at Knife River Indian Villages National Historic Site.

The project objective is to support the NPS mission to “conserve the scenery and the natural and historic objects and the wildlife therein and to provide for the enjoyment of the same in such manner and by such means as will leave them unimpaired for the enjoyment of future generations.” To this end, the project will define desired conditions and management actions that conform to The Secretary of the Interior's Standards for Treatment of Historic Properties, while providing a suite of various reasonable alternatives capable of achieving these goals.

Past planning and emergency efforts have focused on streambank protection; however, this plan will encompass all threats to archeological resources and all reasonable and feasible alternatives to stop or reduce resource impacts. The plan will explore some of the following during the course of alternative development: Stream bank control, erosion control, pest abatement, vegetation control, archeological excavation and documentation, and interpretation of archeological resources. A full range of reasonable alternatives for the management of archeological resources will be developed through this planning process and will include, at minimum, a no-action and a preferred alternative. The potential environmental effects of each alternative will be evaluated.

The purpose of the formal public scoping process is to determine relevant issues that will influence the scope of the environmental analysis, including alternatives, and guide the process for developing the Plan/EIS. All interested persons, organizations, agencies, and Tribes are encouraged to submit comments and suggestions on issues and concerns that should be addressed in the Plan/EIS, and the range of appropriate alternatives that should be examined.

The NPS will use the public involvement process established by the National Environmental Policy Act to satisfy the requirements of Section 106 of the National Historic Preservation Act, as provided for in 36 CFR 800.2(d)(3). Federal, State, and local agencies that may be interested or affected by decisions related to this project are invited to participate in the scoping process and, if eligible, may request to participate as a cooperating agency.

We welcome your comments and assistance in our efforts, but before including your address, telephone number, email address, or other personal identifying information in a comment, you should be aware that your entire comment, including your personal identifying information, may be made publicly available at any time. While you can ask us in your comments to withhold your personal identifying information from public review, we cannot guarantee that we will be able to do so. We will make all submissions from organizations or businesses, from individuals identifying themselves as representatives or officials, or organizations or businesses, available for public inspection in their entirety.

Dated: September 27, 2013.
Patricia S. Trap,
Acting Regional Director, Midwest Region.

[FR Doc. 2014-03185 Filed 2-12-14; 8:45 am]

BILLING CODE 4310-MA-P